DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than October 6, 2016.

Interested persons are invited to submit written comments regarding the subject matter of the investigations to the Director, Office of Trade Adjustment Assistance, at the address shown below, not later than October 6, 2016.

The petitions filed in this case are available for inspection at the Office of the Director, Office of Trade Adjustment Assistance, Employment and Training Administration, U.S. Department of Labor, Room N-5428, 200 Constitution Avenue NW., Washington, DC 20210.

Signed at Washington, DC, this 11th day of August 2016.
Jessica R. Webster,
Certifying Officer, Office of Trade Adjustment Assistance.

Appendix
[48 TAA petitions instituted between 7/25/16 and 8/5/16]
TA-W | Subject firm (petitioners) | Location | Date of institution | Date of petition
92047 | TechMahindra (State/One-Stop) | Overland Park, KS | 07/25/16 | 07/25/16
92048 | SandRidge Energy (Workers) | Oklahoma City, OK | 07/25/16 | 07/22/16
92049 | LMI Aerospace (State/One-Stop) | Wichita, KS | 07/25/16 | 07/22/16
92050 | Centrex Revenue Solutions (Workers) | Ellicott City, MD | 07/25/16 | 07/22/16
92051 | Upper Columbia Mill (State/One-Stop) | Boardman, OR | 07/26/16 | 07/25/16
92052 | McDonald's Corporation (State/One-Stop) | Columbus, OH | 07/26/16 | 07/25/16
92053 | McDonald's Corporation (State/One-Stop) | Oak Brook, IL | 07/26/16 | 07/25/16
92054 | Boston Scientific Corporation (Company) | Marlborough, MA | 07/27/16 | 07/06/16
92055 | Bristol Compressors International, LLC (Company) | Bristol, VA | 07/27/16 | 07/26/16
92056 | Celestica, Inc. (Company) | Ontario, CA | 07/27/16 | 07/26/16
92057 | Chemours Company (Company) | Niagara Falls, NY | 07/27/16 | 07/08/16
92058 | EVRAZ Oregon Steel (Company) | Portland, OR | 07/27/16 | 07/26/16
92059 | Fused Solutions (State/One-Stop) | Potsdam, NY | 07/27/16 | 07/26/16
92060 | Micron (Workers) | Manassas, VA | 07/27/16 | 07/25/16
92061 | United States Steel Corporation—Fairfield Works and Fairfield Southern (Union) | Fairfield, AL | 07/27/16 | 07/26/16
92062 | Word and Brown (State/One-Stop) | Orange, CA | 07/28/16 | 07/26/16
92063 | Brenntag Pacific Inc. (Workers) | Portland, OR | 07/28/16 | 07/13/16
92064 | Groupon, Inc. (Workers) | Chicago, IL | 07/28/16 | 07/27/16
92065 | Rane Corporation (Company) | Mukilteo, WA | 07/28/16 | 07/14/16
92066 | Kraft Heinz Company (Workers) | Pittsburgh, PA | 07/28/16 | 07/27/16
92067 | Overland Solutions, Inc. (State/One-Stop) | Overland Park, KS | 07/28/16 | 07/27/16
92068 | Electralloy/G O Carlson (Union) | Oil City, PA | 07/28/16 | 07/27/16
92069 | Global Technology Associates (State/One-Stop) | Naperville, IL | 07/28/16 | 07/27/16
92070 | Bose Corporation (State/One-Stop) | Westborough, MA | 07/29/16 | 07/28/16
92071 | Caterpillar High Performance Extrusions Group (Company) | Oxford, MS | 07/29/16 | 07/28/16
92071A | Caterpillar High Performance Extrusions Group (Company) | Memphis, TN | 07/29/16 | 07/28/16
92072 | General Products Corporation (Workers) | Russellville, KY | 07/29/16 | 07/28/16
92073 | Citi Shared Services (Citigroup) (State/One-Stop) | Hartford, CT | 07/29/16 | 07/28/16
92074 | Abbott Laboratories (Workers) | Temecula, CA | 08/01/16 | 07/29/16
92075 | SONA BLW Precision Forge, Inc. (Company) | Selma, NC | 08/01/16 | 07/29/16
92076 | SPX Heat Transfer (State/One-Stop) | Tulsa, OK | 08/01/16 | 07/29/16
92077 | Exodus Machines LLC (Company) | Superior, WI | 08/02/16 | 08/01/16
92078 | Intel (State/One-Stop) | Rio Rancho, NM | 08/02/16 | 08/01/16
92079 | Fairfield Southern Company (Union) | Fairfield, AL | 08/02/16 | 08/01/16
92080 | Xerox (Washington facility—Now Closed) (State/One-Stop) | Redmond, WA | 08/03/16 | 08/02/16
92081 | International Business Machines Corporation (IBM) (State/One-Stop) | Somers, NY | 08/03/16 | 08/02/16
92082 | Epsilon Data Management (State/One-Stop) | East Greenbush, NY | 08/03/16 | 08/02/16
92083 | The ESAB Group, Inc. (Company) | Florence, SC | 08/03/16 | 08/02/16
92084 | Northern Industrial Erectors, Inc. (State/One-Stop) | Grand Rapids, MN | 08/04/16 | 08/03/16
92085 | T. Bruce Sales, Inc. (State/One-Stop) | West Middlesex, PA | 08/04/16 | 08/03/16
92086 | Wing Fai Label Inc. (State/One-Stop) | Bells, CA | 08/04/16 | 08/02/16
92087 | Amsted Rail—ASF Keystone Division (Union) | Granite City, IL | 08/04/16 | 08/04/16
92088 | MEMC PASADENA, INC. A SUBSIDIARY OF SUNEDISON, INC. (Workers) | Pasadena, TX | 08/04/16 | 08/04/16
92089 | Precor Inc. (State/One-Stop) | Woodinville, WA | 08/05/16 | 08/03/16
92090 | Ardagh Metal Packaging (State/One-Stop) | Terminal Island, CA | 08/05/16 | 08/04/16
92091 | NMC Aerospace Engineered Materials Esterline Corporation (State/One-Stop) | Pomona, CA | 08/05/16 | 08/04/16
92092 | Abbott Vascular (State/One-Stop) | Temecula, CA | 08/05/16 | 08/04/16
92093 | Honeywell Aerospace (State/One-Stop) | Phoenix, AZ | 08/05/16 | 08/04/16

[FR Doc. 2016-23033 Filed 9-23-16; 8:45 am]

BILLING CODE 4510-FN-P